DEPARTMENT OF HEALTH AND HUMAN SERVICES

Food and Drug Administration

[Docket No. 2004N-0355]

Scientific Considerations Related to Developing Follow-On Protein Products; Correction

AGENCY: Food and Drug Administration, HHS.

ACTION: Notice of public workshop; correction.

SUMMARY: The Food and Drug Administration (FDA) is correcting a notice that appeared in the Federal Register of August 16, 2004 (69 FR 50386). The document announced a public workshop on scientific and technical considerations related to the development of follow-on protein pharmaceutical products. The document was published with an inadvertent error. This document corrects that error.

FOR FURTHER INFORMATION CONTACT: Joyce Strong, Office of Policy (HF-27), Food and Drug Administration, 5600 Fishers Lane, Rockville, MD 20857, 301-827-7010.

In FR Doc. 04-18627 appearing on page 50386 in the issue of August 16, 2004, the following correction is made: On page 50386, in the third column, under the heading ADDRESSES, in the second paragraph add a new second sentence to read: Submit electronic comments to http://www.fda.gov/dockets/ecomments.

Dated: August 31, 2004.
William K. Hubbard,
Associate Commissioner for Policy and Planning.

[FR Doc. 04-20289 Filed 9-1-04; 4:34 pm]

BILLING CODE 4160-01-S